COMMODITY FUTURES TRADING COMMISSION

Sunshine Act Meetings

TIME AND DATE: 10:00 a.m., Monday, November 5, 2018.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Final Rule Amending the De Minimis Exception to the Swap Dealer Definition;

• Proposed Rule on Amendments to Regulations on Swap Execution Facilities and the Trade Execution Requirement; and

• Request for Comment regarding the Practice of “Post-Trade Name Give-Up” on Swap Execution Facilities.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Dated: October 19, 2018.
Robert Sidman,
Deputy Secretary of the Commission.

[FR Doc. 2018-23254 Filed 10-19-18; 4:15 pm]

BILLING CODE 6351-01-P